INTERNATIONAL TRADE COMMISSION

[Investigation No. 332-505]

Use of the “First Sale Rule” for Customs Valuation of U.S. Imports

AGENCY: United States International Trade Commission.

ACTION: Notice of earlier-than-expected transmittal of report to Congress.

SUMMARY: On January 2, 2009, the Commission published a notice in the Federal Register (74 FR 119) announcing that it had instituted investigation No. 332-505, Use of the “First Sale Rule” for Customs Valuation of U.S. Imports, for the purpose of preparing the report required by section 15422(c)(1) of the Food, Conservation, and Energy Act of 2008 (Pub. L. 110-234). The Commission indicated that it expected to transmit its report to Congress in February 2010, based on the expectation it would receive the last of several monthly reports from the Commissioner of U.S. Customs and Border Protection (CBP) in November 2009. The Commission received the final report from CBP on September 25, 2009, and now expects to deliver its report to Congress by December 23, 2009.

DATES: December 23, 2009: New date for anticipated transmittal of Commission report to Congress.

ADDRESSES: All Commission offices, including the Commission's hearing rooms, are located in the United States International Trade Commission Building, 500 E Street, SW., Washington, DC. The public record for this investigation may be viewed on the Commission's electronic docket (EDIS) at http://www.usitc.gov/secretary/edis.htm.

FURTHER INFORMATION: For information specific to this investigation, contact project leader Michael Ferrantino (202-205-3241 or michael.ferrantino@usitc.gov) or deputy project leader Nannette Christ (202-205-3263 or nannette.christ@usitc.gov). For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet site (http://www.usitc.gov). Persons with mobility impairments who will need special assistance in gaining access to the Commission should contact the Office of the Secretary at 202-205-2000.

Background: Section 15422(c)(1) of the Food, Conservation, and Energy Act of 2008 (“2008 Act”), enacted on May 22, 2008, requires the Commission to submit a report to the House Committee on Ways and Means and the Senate Committee on Finance that contains certain customs transaction valuation information compiled by the Commission from information furnished to the Commission by CBP. Section 15422(b) of the 2008 Act requires that CBP provide monthly reports to the Commission. The 2008 Act requires the Commission to submit its report 90 days after receipt of the final monthly report from CBP. On September 25, 2009, the Commission received the final monthly report from CBP and will transmit its report to the Committees on December 23, 2009. The Commission anticipates that the report it sends to the Committees in this investigation will be made available to the public in its entirety.

By order of the Commission.
Issued: October 8, 2009.
Marilyn R. Abbott,
Secretary to the Commission.

[FR Doc. E9-24793 Filed 10-14-09; 8:45 am]

BILLING CODE 7020-02-P